DEPARTMENT OF HEALTH AND HUMAN SERVICES

Privacy Act of 1974; System of Records

AGENCY: Office of the Assistant Secretary for Administration (ASA), Department of Health and Human Services (HHS).

ACTION: Notice of modified systems of records.

SUMMARY: The Department of Health and Human Services (HHS) proposes to modify all of its systems of records to add two security-related routine uses which are needed to improve federal agencies' ability to detect and address actual and suspected breaches of personally identifiable information (PII) in Privacy Act systems of records. The routine uses are explained in the Supplementary Information section of this notice.

DATES: This notice will become effective 30 days after publication, unless the Department makes changes based on comments received. Written comments should be submitted on or before the effective date.

ADDRESSES: The public should address written comments to Beth Kramer, HHS Privacy Act Officer, by mail or email, at HHS.ACFO@hhs.gov, or FOIA/PA Division, Suite 729H, 200 Independence Avenue SW, Washington, DC 20201.

FOR FURTHER INFORMATION CONTACT: General questions may be submitted to Beth Kramer, HHS Privacy Act Officer, by mail or email, at HHS.ACFO@hhs.gov, or FOIA/PA Division, Suite 729H, 200 Independence Avenue SW, Washington, DC 20201.

SUPPLEMENTARY INFORMATION: The Privacy Act (5 U.S.C. 552a), at subsection (b)(3), requires each agency to publish, for public notice and comment, routine uses describing any disclosures of information about an individual that the agency intends to make from a Privacy Act system of records without the individual's prior written consent, other than those which are authorized directly in the Privacy Act at subsections (b)(1)-(2) and (b)(4)-(12). The Privacy Act defines “routine use” at subsection (a)(7) to mean a disclosure for a purpose compatible with the purpose for which the record was collected.

In accordance with Office of Management and Budget (OMB) Memorandum M-17-12, issued January 3, 2017, titled “Preparing for and Responding to a Breach of Personally Identifiable Information,” HHS is adding the following two routine uses to all of its system of records notices (SORNs) to authorize HHS to disclose information from each system of records when necessary to obtain assistance with a suspected or confirmed breach of PII or to assist another agency in its response to a breach. The first routine use is a revised version of a routine use prescribed in 2007, in former OMB Memorandum M-07-16. The second routine use is new:

“To appropriate agencies, entities, and persons when (1) HHS suspects or has confirmed that there has been a breach of the system of records; (2) HHS has determined that as a result of the suspected or confirmed breach there is a risk of harm to individuals, HHS (including its information systems, programs, and operations), the federal government, or national security; and (3) the disclosure made to such agencies, entities, and persons is reasonably necessary to assist in connection with HHS's efforts to respond to the suspected or confirmed breach or to prevent, minimize, or remedy such harm.”

“To another federal agency or federal entity, when HHS determines that information from this system of records is reasonably necessary to assist the recipient agency or entity in (1) responding to a suspected or confirmed breach or (2) preventing, minimizing, or remedying the risk of harm to individuals, the recipient agency or entity (including its information systems, programs, and operations), the federal government, or national security, resulting from a suspected or confirmed breach.”

Both routine uses are compatible with the purposes for which PII is collected in the affected systems of records, because individuals whose PII is included in any federal record system expect that the federal government will secure the information, and because the routine uses are necessary and proper to comply with federal laws imposing security requirements, such as:

• The Privacy Act, which requires that PII be secured against potential misuse by unauthorized persons (see 5 U.S.C. 552a(e)(10)); and

• The Federal Information Security Management Act of 2002 (FISMA), enacted as Title III of the E-Government Act of 2002 (see 44 U.S.C. 3541 et seq.), which requires that federal information and information systems be protected from unauthorized use, disclosure, disruption, modification and destruction, in order to preserve data integrity, confidentiality, and availability.

Adding these routine uses would constitute a significant change to the affected systems of records; therefore, HHS has provided a report on the establishment of the routine uses to OMB and Congress in accordance with 5 U.S.C. 552a(r).

Michael S. Marquis,
Director, FOIA/Privacy Act Division, Office of the Assistant Secretary for Public Affairs.

For the reasons set forth above, the following two routine uses are added to all HHS systems of records listed in the tables at the end of this Notice, and will be effective upon completion of the public comment period provided in this Notice. The first routine use will replace any previously-published version of that routine use:

ROUTINE USES OF RECORDS MAINTAINED IN THE SYSTEM, INCLUDING CATEGORIES OF USERS AND PURPOSES OF SUCH USES:

To appropriate agencies, entities, and persons when (1) HHS suspects or has confirmed that there has been a breach of the system of records; (2) HHS has determined that as a result of the suspected or confirmed breach there is a risk of harm to individuals, HHS (including its information systems, programs, and operations), the federal government, or national security; and (3) the disclosure made to such agencies, entities, and persons is reasonably necessary to assist in connection with HHS's efforts to respond to the suspected or confirmed breach or to prevent, minimize, or remedy such harm.

To another federal agency or federal entity, when HHS determines that information from this system of records is reasonably necessary to assist the recipient agency or entity in (1) responding to a suspected or confirmed breach or (2) preventing, minimizing, or remedying the risk of harm to individuals, the recipient agency or entity (including its information systems, programs, and operations), the federal government, or national security, resulting from a suspected or confirmed breach.

HISTORY:

See below table for the publication history of each affected SORN.

Office of the Secretary of Health and Human Services (OS)
SORN No. | System of records | Last full publication | Subsequent revisions
09-90-0001 | Telephone Directory/Locator System | 47 FR 45514 10/13/82 | 59 FR 55845 11/9/94.
09-90-0005 | Safety Management Information System | 47 FR 45514 10/13/82 | 59 FR 55845 11/9/94.
09-90-0007 | Complaints & Inquiries Records—Miscellaneous | 47 FR 45514 10/13/82 | 59 FR 55845 11/9/94.
09-90-0008 | Conflict of Interest Records | 47 FR 45514 10/13/82 | 59 FR 55845 11/9/94.
09-90-0009 | Discrimination Complaints Records | 47 FR 45514 10/13/82 | 59 FR 55845 11/9/94.
09-90-0010 | Employee Assistance Program (EAP) Records | 67 FR 4965 2/1/02 | None.
09-90-0014 | Grievances Filed Under Part 771 of 5 CFR | 47 FR 45514 10/13/82 | 59 FR 55845 11/9/94.
09-90-0015 | Grievance Records Filed Under Procedures Established by Labor-Management Negotiations | 47 FR 45514 10/13/82 | 59 FR 55845 11/9/94.
09-90-0020 | Suitability for Employment Records | 58 FR 28880 5/17/93 | 59 FR 55845 11/9/94.
09-90-0024 | HHS Financial Management System Records | 80 FR 67767 11/3/15 | None.
09-90-0025 | Central Registry of Individuals Doing Business with HHS | 47 FR 45514 10/13/82 | 59 FR 55845 11/9/94.
09-90-0027 | Congressional Correspondence Unit | 47 FR 45514 10/13/82 | 59 FR 55845 11/9/94.
09-90-0037 | Secretariat's Correspondence Control System | 47 FR 45514 10/13/82 | 59 FR 55845 11/9/94.
09-90-0038 | Secretary's Official Files | 47 FR 45514 10/13/82 | 59 FR 55845 11/9/94.
09-90-0039 | National Disaster Claims Processing System | 66 FR 44347 8/23/01 | None.
09-90-0040 | National Disaster Medical System (NDMS) Patient Treatment and Tracking | 78 FR 78959 12/27/13 | None.
09-90-0048 | Medicare Appeals Council Records | 71 FR 11206 3/6/06 | None.
09-90-0049 | Departmental Appeals Board Case and Appeal Records | 71 FR 11204 3/6/06 | None.
09-90-0052 | Investigatory Material Compiled for Law Enforcement Purposes for the Program Information Management System (PIMS) | 75 FR 18841 4/13/10 | None.
09-90-0058 | Tracking Records and Case Files for FOIA and Privacy Act Requests and Appeals | 81 FR 17463 3/29/16 | None.
09-90-0059 | Federal Advisory Committee Membership Files | 47 FR 45514 10/13/82 | 59 FR 55845 11/9/94.
09-90-0062 | Administrative Claims | 69 FR 71414 12/9/04 | None.
09-90-0066 | OGC Attorney Applicant Files | 47 FR 45514 10/13/82 | 59 FR 55845 11/9/94.
09-90-0067 | Invention Reports Submitted to the Department of Health & Human Services by its Employees, Grantees and Fellowship Recipients & Contractors | 47 FR 45514 10/13/82 | 59 FR 55845 11/9/94.
09-90-0068 | Federal Private Relief Legislation | 47 FR 45514 10/13/82 | 59 FR 55845 11/9/94.
09-90-0069 | Unfair Labor Practice Records | 47 FR 45514 10/13/82 | 59 FR 55845 11/9/94.
09-90-0072 | Congressional Grants Notification Unit | 47 FR 45514 10/13/82 | 59 FR 55845 11/9/94.
09-90-0083 | JOBS Evaluation Data System | 57 FR 2104 1/17/92 | 59 FR 55845 11/9/94.
09-90-0085 | Partnership for Long Term Care Data Set | 73 FR 77027 12/18/08 | None.
09-90-0160 | Medical Reserve Corps Unit Information | 71 FR 37937 7/3/06 | None.
09-90-0161 | Minority Health Information Services | 75 FR 18837 4/13/10 | None.
09-90-0411 | HHS Consolidated Acquisition Solution (HCAS) | 76 FR 21902 4/19/11 | None.
09-90-0777 | Facility and Resource Access Control Records | 75 FR 47812 8/9/10 | None.
09-90-1200 | Workplace Violence Prevention Team (WVPT) Records | 65 FR 58999 10/3/00 | None.
09-90-1201 | ONC Health IT Dashboard | 76 FR 79685 12/22/11 | None.
09-90-1202 | Think Cultural Health | 77 FR 68123 11/15/12 | None.
09-90-1401 | Records About Restricted Dataset Requesters | 80 FR 17447 4/1/15 | None.
09-90-1402 | HHS Payroll Records | 80 FR 48538 8/13/15 | None.
09-90-1501 | Administrative Law Judge (ALJ) Working File, Office of Medicare Hearings and Appeals (OMHA) | 80 FR 63562 10/20/15 | None.
09-90-1601 | Outside Experts Recruited for Non-FACA Activities | 81 FR 83246 11/21/16 | None.
09-90-9999 | Automated Litigation Tracking System | 48 FR 38305 8/23/83 | 59 FR 55845 11/9/94.
09-37-0001 | OASH Correspondence Control System | 51 FR 42352 11/24/86 | 53 FR 47302 11/22/88. 56 FR 1232 1/11/91.
09-37-0020 | Office of Minority Health Grants Records System | 52 FR 37663 10/8/87 | 56 FR 1232 1/11/91.
09-37-0021 | HHS Records Related to Research Misconduct Proceedings | 74 FR 44847 8/31/09 | None.
09-37-0024 | Studies of Preventive Medicine, Health Promotion, and Disease Prevention | 60 FR 1788 1/5/95 | None.
09-37-0151 | Public Health Service ALERT Records Concerning Individuals Found to Have Committed Scientific Misconduct in PHS Sponsored Research | 59 FR 25953 5/18/94 | None.
09-40-0001 | Public Health Service (PHS) Commissioned Corps General Personnel Records | 63 FR 68596 12/11/98 | None.
09-40-0002 | Public Health Service (PHS) Commissioned Corps Medical Records | 63 FR 68596 12/11/98 | None.
09-40-0003 | Public Health Service (PHS) Commissioned Corps Board Proceedings | 63 FR 68596 12/11/98 | None.
09-40-0004 | Public Health Service (PHS) Commissioned Corps Grievance, Investigatory and Disciplinary Files | 63 FR 68596 12/11/98 | None.
09-40-0005 | Public Health Service (PHS) Beneficiary-Contract Medical/Health Care Records | 63 FR 68596 12/11/98 | None.
09-40-0011 | Proceedings of the Board for Correction of PHS Commissioned Corps Records | 63 FR 68596 12/11/98 | None.
09-40-0012 | Debt Management and Collection System | 63 FR 68596 12/11/98 | 80 FR 67767 11/3/15.

Office of Inspector General (OIG)
SORN No. | System of records | Last full publication | Subsequent revisions
09-90-0002 | Investigatory Material Compiled for Security and Suitability Purposes | 47 FR 45514 10/13/82 | 59 FR 55845 11/9/94.
09-90-0003 | Criminal Investigative Files of the Inspector General | 73 FR 11650 3/4/08 | None.
09-90-0064 | Litigation Files, Administrative Complaints and Adverse Personnel Actions | 47 FR 45514 10/13/82 | 59 FR 55845 11/9/94.
09-90-0076 | Administrative Files | 73 FR 18532 4/4/08 | None.
09-90-0077 | Litigation Files, Administrative Complaints, and Personnel Actions | 73 FR 20311 4/15/08 | None.
09-90-0100 | Civil and Administrative Investigative Files of the Inspector General | 47 FR 43190 9/30/82 | 59 FR 55845 11/9/94. 68 FR 36827 6/19/03.
09-90-0101 | Health Care Program Violations | 66 FR 9865 2/12/01 | None.
09-90-1000 | Consolidated Data Repository | 73 FR 66648 11/10/08 | 76 FR 81950 12/29/11.

Administration for Children and Families (ACF)
SORN No. | System of records | Last full publication | Subsequent revisions
09-80-0321 | ORR Division of Children's Services Records | 81 FR 46682 7/18/16 | None.
09-80-0325 | ORR Internet Refugee Arrivals Data System (iRADS) | 81 FR 46682 7/18/16 | None.
09-80-0327 | ORR Repatriation Program Records | 81 FR 46682 7/18/16 | None.
09-80-0329 | ORR Unaccompanied Refugee Minors Records | 81 FR 46682 7/18/16 | None.
09-80-0341 | FYSB Research and Evaluation Project Records | 80 FR 17893 4/2/15 | None.
09-80-0361 | OPRE Research and Evaluation Project Records | 80 FR 17893 4/2/15 | None.
09-80-0371 | OCC Federal Child Care Monthly Case Records | 80 FR 17893 4/2/15 | None.
09-80-0373 | OFA Tribal Temporary Assistance for Needy Families (Tribal TANF) Data System | 80 FR 17893 4/2/15 | None.
09-90-0375 | OFA Temporary Assistance for Needy Families | 80 FR 17893 4/2/15 | None.
09-80-0381 | OCSE National Directory of New Hires | 80 FR 17893 4/2/15 | None.
09-80-0383 | OCSE Debtor File | 80 FR 17893 4/2/15 | None.
09-80-0385 | OCSE Federal Case Registry of Child Support Orders (FCR) | 80 FR 17893 4/2/15 | None.
09-80-0387 | Federal Parent Locator Service Child Support Services Portal | 80 FR 17893 4/2/15 | None.
09-80-0388 | ORR Refugee Suicide Database | 81 FR 46682 7/18/16 | None.

Agency for Healthcare Research and Quality (AHRQ)
SORN No. | System of records | Last full publication | Subsequent revisions
09-35-0001 | Agency Management Information System/Grants (AMIS/GRANTS and CONTRACTS) | 69 FR 17666 4/5/04 | None.
09-35-0002 | Medical Expenditure Panel Survey (MEPS) and National Medical Expenditure Survey 2 (NMES 2) | 69 FR 17666 4/5/04 | None.

Centers for Disease Control and Prevention (CDC)
SORN No. | System of records | Last full publication | Subsequent revisions
09-19-0001 | Records of Persons Exposed or Potentially Exposed to Toxic or Hazardous Substances | 76 FR 4431 1/25/11 | None.
09-20-0001 | Certifying Interpreting Physician File | 51 FR 42449 11/24/86 | 57 FR 62811 12/31/92. 58 FR 69048 12/29/93. 59 FR 67080 12/28/94. 76 FR 4435 1/25/11.
09-20-0055 | Administrative Files for Research/Demonstration and Training Grants, and Cooperative Agreements | 51 FR 42449 11/24/86 | 53 FR 47345 11/22/88. 54 FR 47904 11/17/89. 57 FR 62811 12/31/92. 58 FR 69048 12/29/93. 59 FR 67080 12/28/94. 76 FR 4436 1/25/11.
09-20-0059 | Division of Training Mailing List | 51 FR 42449 11/24/86 | 58 FR 69048 12/29/93.
09-20-0089 | Studies of Treatment of Tuberculosis and Other Mycobacterioses | 51 FR 42449 11/24/86 | 54 FR 47904 11/17/89. 56 FR 66733 12/24/91. 57 FR 62811 12/31/92. 58 FR 69048 12/29/93. 76 FR 4438 1/25/11.
09-20-0090 | Studies of Testing for Tuberculosis and Other Mycobacterioses | 51 FR 42449 11/24/86 | 54 FR 47904 11/17/89. 56 FR 66733 12/24/91. 57 FR 62811 12/31/92. 58 FR 69048 12/29/93. 76 FR 4440 1/25/11.
09-20-0096 | Records of Tuskegee Study Health Benefit Recipients | 51 FR 42449 11/24/86 | 54 FR 47904 11/17/89. 56 FR 1324 1/11/91. 56 FR 66733 12/24/91. 57 FR 62811 12/31/92. 58 FR 69048 12/29/93. 76 FR 4443 1/25/11.
09-20-0102 | Alien Mental Waiver Program | 51 FR 42449 11/24/86 | 54 FR 47904 11/17/89. 56 FR 66733 12/24/91. 57 FR 62811 12/31/92. 58 FR 69048 12/29/93. 76 FR 4445 1/25/11.
09-20-0103 | Alien Tuberculosis Follow-up Program | 51 FR 42449 11/24/86 | 54 FR 47904 11/17/89. 56 FR 1324 1/11/91. 56 FR 66733 12/24/91. 57 FR 62811 12/31/92. 58 FR 69048 12/29/93. 76 FR 4446 1/25/11.
09-20-0106 | Specimen Handling for Testing and Related Data | 51 FR 42449 11/24/86 | 53 FR 47345 11/22/88. 54 FR 47904 11/17/89. 56 FR 1324 1/11/91. 56 FR 66733 12/24/91. 57 FR 62811 12/31/92. 58 FR 69048 12/29/93. 76 FR 4449 1/25/11.
09-20-0112 | Fellowship Program and Guest Researcher Records | 51 FR 42449 11/24/86 | 54 FR 47904 11/17/89. 56 FR 1324 1/11/91. 56 FR 66733 12/24/91. 57 FR 62811 12/31/92. 58 FR 69048 12/29/93. 59 FR 48331 9/7/94. 59 FR 67080 12/28/94. 76 FR 4451 1/25/11.
09-20-0113 | Epidemic Investigation Case Records | 51 FR 42449 11/24/86 | 54 FR 47904 11/17/89. 56 FR 66733 12/24/91. 57 FR 62811 12/31/92.
|  |  | 58 FR 69048 12/29/93.
|  |  | 76 FR 4452 1/25/11.
09-20-0117 | Medical and Test Record Results of Individuals Involved in NIOSH Laboratory Studies | 51 FR 42449 11/24/86 | 54 FR 47904 11/17/89. 58 FR 69048 12/29/93. 76 FR 4454 1/25/11.
09-20-0118 | Study at Work Sites Where Agents Suspected of Being Occupational Hazards Exist | 51 FR 42449 11/24/86 | 54 FR 47904 11/17/89. 58 FR 69048 12/29/93. 76 FR 4456 1/25/11.
09-20-0136 | Epidemiologic Studies and Surveillance of Disease Problems | 57 FR 62811 12/31/92 | 58 FR 69048 12/29/93. 59 FR 48331 9/7/94. 59 FR 67080 12/28/94. 76 FR 4458 1/25/11.
09-20-0137 | Passport File | 51 FR 42449 11/24/86 | 54 FR 47904 11/17/89. 56 FR 1324 1/11/91. 58 FR 69048 12/29/93. 76 FR 4460 1/25/11.
09-20-0138 | Epidemic Intelligence Service Officers Files | 51 FR 42449 11/24/86 | 53 FR 47345 11/22/88. 54 FR 47904 11/17/89. 56 FR 1324 1/11/91. 58 FR 69048 12/29/93. 76 FR 4462 1/25/11.
09-20-0147 | Occupational Health Epidemiological Studies and EEOICPA Program Records | 76 FR 34706 6/14/11 | None.
09-20-0149 | Morbidity Studies in Coal Mining, Metal and Non-metal Mining and General Industry | 51 FR 42449 11/24/86 | 54 FR 47904 11/17/89. 57 FR 62811 12/31/92. 58 FR 69048 12/29/93. 59 FR 67080 12/28/94. 76 FR 4466 1/25/11.
09-20-0153 | Mortality Studies in Coal Mining, Metal and Non-metal Mining and General Industry | 51 FR 42449 11/24/86 | 54 FR 47904 11/17/89. 57 FR 62811 12/31/92. 58 FR 69048 12/29/93. 59 FR 67080 12/28/94. 76 FR 4469 1/25/11.
09-20-0154 | Medical and Laboratory Studies | 51 FR 42449 11/24/86 | 54 FR 47904 11/17/89. 57 FR 62811 12/31/92. 58 FR 69048 12/29/93. 59 FR 67080 12/28/94. 76 FR 4471 1/25/11.
09-20-0157 | Clinical Laboratory Personnel Proficiency Test Results (Medicare) | 51 FR 42449 11/24/86 | 54 FR 47904 11/17/89. 58 FR 69048 12/29/93.
09-20-0159 | Records of Subjects in Certification, Testing, Studies of Personal Protective Devices, and Accident Investigations | 51 FR 42449 11/24/86 | 54 FR 47904 11/17/89. 56 FR 1324 1/11/91. 57 FR 62811 12/31/92. 58 FR 69048 12/29/93. 76 FR 4474 1/25/11.
09-20-0160 | Records of Subjects in Health Promotion and Education Studies | 51 FR 42449 11/24/86. | 54 FR 47904 11/17/89. 56 FR 66733 12/24/91. 57 FR 62811 12/31/92. 58 FR 69048 12/29/93. 76 FR 4476 1/25/11.
09-20-0161 | Records of Health Professionals in Disease Prevention and Control Training Programs | 51 FR 42449 11/24/86 | 54 FR 47904 11/17/89. 56 FR 66733 12/24/91. 57 FR 62811 12/31/92. 58 FR 69048 12/29/93. 59 FR 67080 12/28/94. 76 FR 4478 1/25/11.
09-20-0162 | Records of Subjects in Agent Orange, Vietnam Experience, and Selected Cancers Studies | 51 FR 42449 11/24/86. | 56 FR 66733 12/24/91. 57 FR 62811 12/31/92. 58 FR 69048 12/29/93. 76 FR 4480 1/25/11.
09-20-0163 | Applicants for National Center for Health Statistics Technical Assistance | 51 FR 42368 11/24/86 | 52 FR 45023 11/24/87. 56 FR 1324 1/11/91. 57 FR 62811 12/31/92. 58 FR 69048 12/29/93. 59 FR 48331 9/7/94.
09-20-0164 | Health and Demographic Surveys Conducted in Probability Samples of the United States Population | 49 FR 37693 9/25/84. | 52 FR 45023 11/24/87. 56 FR 1324 1/11/91. 57 FR 62811 12/31/92. 58 FR 69048 12/29/93. 59 FR 48331 9/7/94.
09-20-0165 | Health Facilities' Inventories and Survey | 49 FR 37694 9/25/84 | 52 FR 45023 11/24/87. 56 FR 1324 1/11/91. 57 FR 62811 12/31/92. 58 FR 69048 12/29/93. 59 FR 48331 9/7/94.
09-20-0166 | Vital Statistics for Births, Deaths, Fetal Deaths, Marriages, and Divorces Occurring in the United States During Each Year | 49 FR 37695 9/25/84 | 52 FR 45023 11/24/87. 56 FR 1324 1/11/91. 57 FR 62811 12/31/92. 58 FR 69048 12/29/93. 59 FR 48331 9/7/94.
09-20-0167 | Health Care Statistics | 49 FR 37697 9/25/84 | 52 FR 45023 11/24/87. 56 FR 1324 1/11/91. 57 FR 62811 12/31/92. 58 FR 69048 12/29/93. 59 FR 48331 9/7/94.
09-20-0169 | Users of Health Statistics | 51 FR 42371 11/24/86 | 52 FR 45023 11/24/87. 56 FR 1324 1/11/91. 57 FR 62811 12/31/92. 58 FR 69048 12/29/93. 59 FR 48331 9/7/94.
09-20-0170 | National Select Agent Registry (NSAR)/Select Agent Transfer and Entity Registration Information System (SATERIS) | 72 FR 35993 7/2/07 | 76 FR 4483 1/25/11.
09-20-0171 | Quarantine-and-Traveler-Related Activities, Including Records for Contact Tracing Investigation and Notification under 42 CFR Parts 70 and 71 | 72 FR 70867 12/13/07 | 76 FR 4485 1/25/11.

Centers for Medicare & Medicaid Services (CMS)
SORN No. | System of records | Last full publication | Subsequent revisions
09-70-0500 | Health Plan Management System (HPMS) | 73 FR 2257 1/14/08 | 74 FR 30606 6/26/09.
|  |  | 78 FR 32257 5/29/13.
09-70-0501 | Medicare Multi-Carrier Claims System (MCS) | 55 FR 37549 9/12/90 | 55 FR 47394 11/13/90. 59 FR 37243 7/21/94.
|  |  | 62 FR 6648 2/21/96.
|  |  | 63 FR 38414 7/16/98.
|  |  | 65 FR 50552 8/18/00.
|  |  | 67 FR 54428 8/22/02.
|  |  | 71 FR 64968 11/6/06.
|  |  | 74 FR 30606 6/26/09.
|  |  | 78 FR 32257 5/29/13.
09-70-0502 | Enrollment Database (EDB) | 73 FR 10249 2/26/08 | 74 FR 30606 6/26/09.
|  |  | 78 FR 23938 4/23/13.
|  |  | 81 FR 8204 2/18/16.
09-70-0503 | Fiscal Intermediary Shared System (FISS) | 71 FR 64961 11/6/06 | 74 FR 30606 6/26/09 78 FR 32257 5/29/13.
09-70-0505 | Third Party System (TPS) | 72 FR 36000 7/2/07 | None.
09-70-0506 | CMS Encounter Data System (EDS) | 79 FR 34539 6/17/14 | None.
09-70-0507 | Open Payments (OPP) | 79 FR 32547 6/5/14 | None.
09-70-0508 | CMS Risk Adjustment Suite of Systems (RASS) | 80 FR 49237 8/17/15 | None.
09-70-0510 | State Health Insurance Assistance Program (SHIP) National Performance Report (SHIP-NPR) | 72 FR 36005 7/2/07 | None.
09-70-0511 | CMS Risk Adjustment Data Validation System (RAD-V) | 81 FR 26566 5/3/16 | None.
09-70-0512 | Links of Social Security Administration (SSA) and Centers for Medicare & Medicaid Services (CMS) Data (LOD) | 73 FR 11643 3/4/08 | None.
09-70-0513 | Medicare Benefits Notices (MBN) | 65 FR 48000 8/4/00 | None.
09-70-0514 | Medicare Provider Analysis and Review (MEDPAR) | 71 FR 17470 4/6/06 | 74 FR 30606 6/26/09.
09-70-0515 | Record of Individuals Allowed Regular and Special Parking Privileges at the CMS Building (PRKG) | 71 FR 60533 10/13/06 | None.
09-70-0516 | Complaints Against Health Insurance Issuers and Health Plans (CAHII) | 72 FR 26121 5/8/07 | None.
09-70-0517 | Physician/Supplier 1099 File (Statement for Recipients of Medical and HealthCare Payments) (PSFMHC) | 67 FR 40941 6/14/02 | None.
09-70-0518 | Record of Individuals Authorized Entry to the CMS Building via a Card Key Access System (RICKS) | 71 FR 67130 11/20/06 | None.
09-70-0519 | Medicare Current Beneficiary Survey (MCBS) | 71 FR 60722 10/16/06 | 74 FR 30606 6/26/09.
09-70-0520 | ESRD Program Management and Medical Information System (PMMIS) | 72 FR 26126 5/8/07 | 74 FR 30606 6/26/09.
09-70-0521 | Inpatient Rehabilitation Facilities—Patient Assessment Instrument (IRF-PAI) | 71 FR 67143 11/20/06 | 74 FR 30606 6/26/09. 78 FR 32257 5/29/13.
09-70-0522 | HHA Outcome and Assessment Information Set (OASIS) | 72 FR 63906 11/13/07 | 74 FR 30606 6/26/09. 78 FR 23938 4/23/13.
|  |  | 78 FR 32257 5/29/13.
09-70-0524 | Intern and Resident Information System (IRIS) | 72 FR 69691 12/10/07 | None.
09-70-0525 | Unique Physician/Practitioner Identification Number (UPIN) System | 79 FR 64802 10/31/14 | None.
09-70-0526 | Common Working File (CWF) | 71 FR 64955 11/6/06 | 74 FR 30606 6/26/09.
|  |  | 78 FR 23938 4/23/13.
|  |  | 78 FR 32257 5/29/13.
09-70-0527 | Fraud Investigation Database (FID) | 71 FR 77759 12/27/06 | 78 FR 32257 5/29/13.
09-70-0528 | Long Term Care Minimum Data Set (MDS) | 72 FR 12801 3/19/07 | 74 FR 30606 6/26/09.
|  |  | 78 FR 23938 4/23/13.
|  |  | 78 FR 32257 5/29/13.
09-70-0529 | Employee Building Pass File (EBPF) | 72 FR 65741 11/23/07 | None.
09-70-0530 | Medicare Supplier Identification Files (MSIF) | 71 FR 70404 12/4/06 | 78 FR 32257 5/29/13.
09-70-0531 | National Emphysema Treatment Trial (NETT) | 72 FR 47045 8/22/07 | None.
09-70-0532 | Provider Enrollment, Chain, and Ownership System (PECOS) | 71 FR 60536 10/13/06 | 74 FR 30606 6/26/09. 78 FR 32257 5/29/13.
09-70-0533 | Medicare Managed Care Beneficiary Reconsideration System (RECON) | 71 FR 60153 10/12/06 | None.
09-70-0534 | Medicare Exclusion Database (MED) | 71 FR 70967 12/7/06 | 78 FR 32257 5/29/13.
09-70-0535 | 1-800 Medicare Helpline (HELPLINE) | 73 FR 10255 2/26/08 | None.
09-70-0536 | Medicare Beneficiary Database (MBD) | 71 FR 70396 12/4/06 | 74 FR 30606 6/26/09.
|  |  | 78 FR 23938 4/23/13.
|  |  | 78 FR 32257 5/29/13.
09-70-0537 | Workers Comp Set Aside File (WCSAF) | 70 FR 75175 12/19/05 | None.
09-70-0538 | Individuals Authorized Access to Centers for Medicare & Medicaid Services Computer Services (IACS) | 72 FR 63902 11/13/07 | 74 FR 30606 6/26/09.
09-70-0539 | Long Term Care Hospitals Quality Reporting Program (LTCH QRP) | 78 FR 8536 2/6/13 | None.
09-70-0541 | Medicaid Statistical Information System (MSIS) | 71 FR 65527 11/8/06 | 74 FR 30606 6/26/09.
|  |  | 78 FR 32257 5/29/13.
09-70-0542 | Medicare Learning Network (MLN) Registration and Product Ordering System (REPOS) | 72 FR 10537 3/8/07 | None.
09-70-0543 | Cytology Personnel Records System (CYPERS) | 70 FR 2637 1/14/05 | None.
09-70-0544 | Health Insurance Portability and Accountability Act (HIPAA) Information Tracking System (HITS) | 70 FR 38944 7/6/05 | None.
09-70-0546 | Federal Reimbursement of Emergency Health Services Furnished to Undocumented Aliens (Section 1011) | 70 FR 45397 8/5/05 | None.
09-70-0547 | Data Collection Secondary to Coverage Decision (DCSCD) System | 70 FR 53667 9/9/05 | None.
09-70-0548 | Hospice Item Set (HIS) System | 79 FR 19341 4/8/14 | None.
09-70-0550 | Medicare Retiree Drug Subsidy Program (RDSP) | 70 FR 41035 7/15/05 | 74 FR 30606 6/26/09. 78 FR 32257 5/29/13.
09-70-0552 | Medicare Premium Withhold System (PWS) | 70 FR 69766 11/17/05 | None.
09-70-0553 | Medicare Drug Data Processing System (DDPS) | 73 FR 30943 5/29/08 | 74 FR 30606 6/26/09.
|  |  | 76 FR 65196 10/20/11.
|  |  | 78 FR 23938 4/23/13.
|  |  | 78 FR 32257 5/29/13.
09-70-0555 | National Plan and Provider Enumeration System (NPPES) | 75 FR 30411 6/1/10 | 78 FR 32257 5/29/13.
09-70-0557 | Medicare True Out-of-Pocket (TrOOP) Expenditures System | 70 FR 69569 11/16/05 | None.
09-70-0558 | National Claims History (NCH) | 71 FR 67137 11/20/06 | 74 FR 30606 6/26/09.
|  |  | 76 FR 65196 10/20/11.
|  |  | 78 FR 23938 4/23/13.
|  |  | 78 FR 32257 5/29/13.
09-70-0560 | Health Insurance Exchanges (HIX) Program | 78 FR 63211 10/23/13 | None.
09-70-0564 | Medicare Prescription Drug Plan Finder (MPDPF) System | 70 FR 67709 11/8/05 | None.
09-70-0565 | Automated Survey Processing Environment (ASPEN) Complaints/Incidents Tracking System (ACTS) | 71 FR 29643 5/23/06 | None.
09-70-0566 | Medicare Appeals System (MAS) | 71 FR 54489 9/15/06 | None.
09-70-0568 | One Program Integrity Data Repository (ODR) | 71 FR 64530 11/2/06 | 74 FR 30606 6/26/09.
09-70-0569 | Post-Acute Care Payment Reform/Continuity of Assessment Records and Report Evaluation Demonstration and Evaluation (PAC-CARE) | 72 FR 55225 9/28/07 | 74 FR 30606 6/26/09.
09-70-0571 | Medicare Integrated Data Repository (IDR) | 71 FR 74915 12/13/06 | 74 FR 30606 6/26/09.
|  |  | 76 FR 65196 10/20/11.
|  |  | 78 FR 23938 4/23/13.
|  |  | 78 FR 32257 5/29/13.
09-70-0572 | National Disaster Medical System Claims Processing System (NDMS-CPS) | 70 FR 70849 11/23/05 | None.
09-70-0573 | Chronic Condition Warehouse (CCW) | 79 FR 64802 10/31/14 | None.
09-70-0574 | Medicare Health Support System (MHS) | 71 FR 24718 4/26/06 | None.
09-70-0575 | Organ Procurement Organizations System (OPOS) | 71 FR 29336 5/22/06 | 74 FR 30606 6/26/09.
09-70-0576 | Healthcare Common Procedure Coding System (HCPCS) Level II | 72 FR 44155 8/7/07 | None.
09-70-0578 | Medicaid Program and State Children's Health Insurance Program Payment Error Rate Measurement (PERM) | 71 FR 28347 5/16/06 | None.
09-70-0580 | Medicare Care Management for High Cost Beneficiaries (CMHCB) | 71 FR 41811 7/24/06 | None.
09-70-0584 | Performance Measurement and Reporting System (PMRS) | 74 FR 17672 4/16/09 | None.
09-70-0586 | Health Insurance Assistance Database (HIAD) | 76 FR 21373 4/15/11 | None.
09-70-0587 | Medicare and Medicaid Electronic Health Record (EHR) Incentive Program National Level Repository | 75 FR 73095 11/29/10 | None.
09-70-0588 | Medicare Advantage Prescription Drug System (MARx) System | 76 FR 47190 8/4/11 | 78 FR 23938 4/23/13. 78 FR 32257 5/29/13.
09-70-0591 | Master Demonstration, Evaluation, and Research Studies for the Office of Research Development and Information (DERS) | 72 FR 19705 4/19/07 | None.
09-70-0593 | Money Follows the Person (MFP) Demonstration (MFPD) | 72 FR 72729 12/21/07 | None.
09-70-0594 | Home and Community Based Alternatives (CBA) to Psychiatric Residential Treatment Facilities (PRTF) Demonstration (CBA-PRTF) | 72 FR 72733 12/21/07 | 74 FR 30606 6/26/09.
09-70-0595 | Evaluation of Drug Usage Under the Staff Time and Resource Intensity Verification Study (STRIVE) | 71 FR 64527 11/2/06 | None.
09-70-0597 | Medicare Master Death Records File (MMDRF) | 72 FR 35997 7/2/07 | None.
09-70-0598 | Medicare Administrative Issue Tracker and Reporting of Operations System (MAISTRO) | 73 FR 10450 2/27/08 | None.
09-70-0598 | ACO Database System | 76 FR 58007 9/19/11 | None.
09-70-0599 | Medicaid Integrity Program System (MIPS) | 73 FR 11638 3/4/08 | 78 FR 32257 5/29/13.
09-70-3005 | Correspondence Tracking Management System (CTMS) | 67 FR 57020 9/6/02 | None.
09-90-0041 | Consumer Mailing List | 47 FR 45514 10/13/82 | 59 FR 55845 11/9/94.
09-90-0046 | Consumer Complaint Correspondence System | 47 FR 45514 10/13/82 | 59 FR 55845 11/9/94.
09-90-0250 | Early Retirement Reinsurance Program (ERRP) | 75 FR 31440 6/3/10 | None.
09-90-0275 | Pre-Existing Condition Insurance Plan (PCIP) | 75 FR 38526 7/2/10 | None.

Food & Drug Administration (FDA)
SORN No. | System of records | Last full publication | Subsequent revisions
09-10-0002 | Regulated Industry Employee Enforcement Records | 51 FR 42524 11/24/86 | 53 FR 9815 3/25/88.
|  |  | 54 FR 47912 11/17/89.
|  |  | 59 FR 67087 12/28/94.
|  |  | 79 FR 36536 6/27/14.
09-10-0004 | Communications (Oral and Written) With the Public | 51 FR 42524 11/24/86 | 54 FR 47912 11/17/89.
|  |  | 79 FR 36536 6/27/14.
09-10-0005 | State Food and Drug Official File | 51 FR 42524 11/24/86 | 59 FR 67087 12/28/94.
|  |  | 79 FR 36536 6/27/14.
09-10-0009 | Special Studies and Surveys on FDA-Regulated Products | 51 FR 42524 11/24/86 | 59 FR 67087 12/28/94.
|  |  | 79 FR 36536 6/27/14.
09-10-0010 | Bioresearch Monitoring Information System | 77 FR 1073 1/9/12 | 79 FR 36536 6/27/14.
09-10-0013 | Employee Conduct Investigative Records | 51 FR 42524 11/24/86 | 56 FR 1331 1/11/91.
|  |  | 57 FR 62828 12/31/92.
|  |  | 59 FR 67087 12/28/94.
|  |  | 79 FR 36536 6/27/14.
09-10-0018 | Employee Identification Card Information Records | 51 FR 42524 11/24/86 | 56 FR 1331 1/11/91.
|  |  | 57 FR 62828 12/31/92.
|  |  | 59 FR 67087 12/28/94.
|  |  | 79 FR 36536 6/27/14.
09-10-0019 | Mammography Quality Standards Act (MQSA) Training Records | 60 FR 53188 10/12/95 | 79 FR 36536 6/27/14.
09-10-0020 | FDA Records Related to Research Misconduct Proceedings | 77 FR 52036 8/28/12 | 79 FR 36536 6/27/14.
09-10-0021 | FDA User Fee System | 77 FR 67820 11/14/12 | 79 FR 36536 6/27/14.
09-10-0022 | FDA Commissioning of State and Local Officials | 79 FR 72687 12/8/14. | date corrected:
|  |  | 79 FR 74730 12/16/14.

Health Resources and Services Administration (HRSA)
SORN No. | System of records | Last full publication | Subsequent revisions
09-15-0003 | Contract Physicians and Consultants | 74 FR 38456 8/3/09 | None.
09-15-0007 | Patients Medical Record System Public Health Service Hospitals | 74 FR 38456 8/3/09 | None.
09-15-0028 | Public Health Service Clinical Affiliation Trainee Records | 74 FR 38456 8/3/09 | None.
09-15-0037 | Public Health Service and National Health Service Corps Scholarship/Loan Repayment Participant Records System | 80 FR 18631 4/7/15 | None.
09-15-0038 | Disability Claims of the Nursing Student Loan Program | 75 FR 5604 2/3/10 | None.
09-15-0046 | Health Professions Planning and Evaluation | 75 FR 15441 3/29/10 | None.
09-15-0054 | National Practitioner Data Bank for Adverse Information on Physicians and Other Health Care Practitioners | 78 FR 47322 8/5/13 | None.
09-15-0055 | Organ Procurement and Transplantation Network Data System | 74 FR 57184 11/4/09 | None.
09-15-0056 | National Vaccine Injury Compensation Program | 75 FR 60468 9/30/10 | None.
09-15-0059 | Strategic Work Information and Folder Transfer System (SWIFT) | 75 FR 57806 9/22/10 | None.
09-15-0065 | Smallpox Vaccine Injury Compensation Program | 68 FR 62301 11/3/03 | None.
09-15-0066 | State-Provided Physician Records for the Application Submission & Processing System | 75 FR 19652 4/15/10 | None.
09-15-0068 | C.W. Bill Young Cell Transplantation Program | 74 FR 23869 5/21/09 | None.
09-15-0069 | Campus Based Branch Program Document Management System | 75 FR 5606 2/3/10 | None.
09-15-0071 | Countermeasures Injury Compensation Program | 76 FR 28991 5/19/11 | None.

Indian Health Service (IHS)
SORN No. | System of records | Last full publication | Subsequent revisions
09-17-0001 | Medical, Health, and Billing Records Systems | 75 FR 1625 1/12/10 | None.
09-17-0002 | Indian Health Service Scholarship and Loan Repayment Programs | 74 FR 50222 9/30/09 | None.
09-17-0003 | Indian Health Service Medical Staff Credentials and Privileges Records | 74 FR 46436 9/9/09 | 74 FR 50981 10/2/09.
09-17-0004 | Indian Health Service Sanitation Facilities Construction Individual Applicant Records | 74 FR 43143 8/26/09 | None.
09-17-0005 | Personal Health Records (PHR) Administrative Records—IHS | 77 FR 65564 10/29/12 | None.

National Institutes of Health (NIH)
SORN No. | System of records | Last full publication | Subsequent revisions
09-25-0005 | Administration: Library Operations and NIH Library User I.D. File | 67 FR 60742 9/26/02 | None.
09-25-0007 | Administration: NIH Safety Glasses Issuance Program | 67 FR 60742 9/26/02 | None.
09-25-0011 | Clinical Research: Blood Donor Records | 67 FR 60742 9/26/02 | None.
09-25-0012 | Clinical Research: Candidate Healthy Volunteer Records | 67 FR 60742 9/26/02 | None.
09-25-0014 | Clinic Research: Student Records | 67 FR 60742 9/26/02 | None.
09-25-0033 | International Activities: Fellowships Awarded by Foreign Organizations | 67 FR 60742 9/26/02 | None.
09-25-0034 | International Activities: Scholars-in-Residence Program | 67 FR 60742 9/26/02 | None.
09-25-0036 | Extramural Awards and Chartered Advisory Committees (IMPAC 2), Contract Information (DCIS), and Cooperative Agreement Information | 67 FR 60742 9/26/02 | None.
09-25-0041 | Research Resources: Scientists Requesting Hormone Distribution | 67 FR 60742 9/26/02 | None.
09-25-0054 | Administration: Property Accounting (Card Key System) | 67 FR 60742 9/26/02 | None.
09-25-0078 | Administration: Consultant File | 67 FR 60742 9/26/02 | None.
09-25-0087 | Administration: Senior Staff | 67 FR 60742 9/26/02 | None.
09-25-0099 | Clinical Research: Patient Medical Records | 67 FR 60742 9/26/02 | None.
09-25-0105 | Administration: Health Records of Employees, Visiting Scholars, Fellows, and Others Who Receive Medical Care Through the Employee Health Unit | 67 FR 60742 9/26/02 | None.
09-25-0106 | Administration: Office of the NIH Director and Institute/Center Correspondence Records | 67 FR 60742 9/26/02 | None.
09-25-0108 | Personnel: Guest Researchers, Special Volunteers, and Scientists Emeriti | 67 FR 60742 9/26/02 | None
09-25-0115 | Administration: Curricula Vitae of Consultants and Clinical Investigators | 67 FR 60742 9/26/02 | None.
09-25-0118 | Contracts: Professional Services Contractors | 67 FR 60742 9/26/02 | None.
09-25-0121 | International Activities: Senior International Fellowships Program | 67 FR 60742 9/26/02 | None.
09-25-0124 | Administration: Pharmacology Research Associates | 67 FR 60742 9/26/02 | None.
09-25-0140 | International Activities: International Scientific Researchers in Intramural Laboratories at the National Institutes of Health | 67 FR 60742 9/26/02 | None.
09-25-0156 | Records of Participants in Programs and Respondents in Surveys Used to Evaluate Programs of the Public Health Service | 67 FR 60742 9/26/02 | None.
09-25-0158 | Administration: Records of Applicants and Awardees of the NIH Intramural Research Training Awards Program | 67 FR 60742 9/26/02 | None.
09-25-0160 | United States Renal Data System (USRDS) | 67 FR 60742 9/26/02 | None.
09-25-0165 | National Institutes of Health (NIH) Office of Loan Repayment and Scholarship (OLRS) Records System | 67 FR 6043 2/8/02 | None.
09-25-0166 | Administration: Radiation and Occupational Safety and Health Management Information Systems | 67 FR 60742 9/26/02 | None.
09-25-0167 | National Institutes of Health (NIH) TRANSHARE Program | 67 FR 60742 9/26/02 | None.
09-25-0168 | Invention, Patent, and Licensing Documents Submitted to the Public Health Service by its Employees, Grantees, Fellowship Recipients, and Contractors | 71 FR 46496 8/14/06 | None.
09-25-0169 | Medical Staff-Credentials Files | 67 FR 60742 9/26/02 | None.
09-25-0200 | Clinical, Basic and Population-based Research Studies of the National Institutes of Health (NIH) | 67 FR 60742 9/26/02 | None.
09-25-0202 | Patient Records on PHS Beneficiaries (1935-1974) and Civilly Committed Drug Abusers (1967-1976) Treated at the PHS Hospitals in Fort Worth, Texas, or Lexington, Kentucky | 67 FR 60742 9/26/02 | None.
09-25-0203 | National Institute on Drug Abuse, Intramural Research Program, Federal Prisoner and Non-Prisoner Research Files | 67 FR 60742 9/26/02 | None.
09-25-0207 | Subject Participants in Pharmacokinetic Studies on Drugs of Abuse and on Treatment Medications | 67 FR 60742 9/26/02 | None.
09-25-0208 | Drug Abuse Treatment Outcome Study (DATOS) | 67 FR 60742 9/26/02 | None.
09-25-0209 | Subject-Participants in Drug Abuse Research Studies on Drug Dependence and in Research Supporting Investigational New Drug and New Drug Applications | 67 FR 60742 9/26/02 | None.
09-25-0210 | Shipment Records of Drugs of Abuse to Authorized Researchers | 67 FR 60742 9/26/02 | None.
09-25-0211 | Intramural Research Program Records of In-and-Out-Patients with Various Types of Alcohol Abuse and Dependence, Relatives of Patients with Alcoholism, and Healthy Volunteers | 67 FR 60742 9/26/02 | None.
09-25-0213 | Administration: Employee Conduct Investigative Records | 67 FR 60742 9/26/02 | None.
09-25-0216 | Administration: NIH Electronic Directory | 67 FR 60742 9/26/02 | None.
09-25-0217 | NIH Business System (NBS) | 67 FR 54441 8/22/02 | None.
09-25-0223 | NIH Records Related to Research Misconduct Proceedings | 77 FR 52043 8/28/12 | None.
09-25-0225 | NIH Electronic Research Administration (eRA) Records | 81 FR 88690 12/8/16 | None.

Substance Abuse & Mental Health Services Administration (SAMHSA)
SORN No. | System of records | Last full publication | Subsequent revisions
09-30-0023 | Records of Contracts Awarded to Individuals | 75 FR 28264 5/20/10 | None.
09-30-0027 | Grants and Cooperative Agreements: Alcohol, Drug Abuse, and Mental Health Services Evaluation, Service, Demonstration, Education, Fellowship, Training, Clinical Training, and Community Services Programs | 75 FR 28264 5/20/10 |
09-30-0033 | Correspondence Files | 75 FR 28264 5/20/10 | None.
09-30-0036 | Alcohol, Drug Abuse, and Mental Health Epidemiologic Data | 75 FR 28264 5/20/10 | None.
09-30-0051 | SAMHSA Information Mailing System (SIMS) | 75 FR 28264 5/20/10 | None.
09-30-0052 | Opioid Treatment Waiver Notification System (OTWNS) | 75 FR 28264 5/20/10 | None.

[FR Doc. 2018-03014 Filed 2-13-18; 8:45 am]

BILLING CODE 4150-25-P